DEPARTMENT OF DEFENSE

Office of the Secretary

[Docket ID: DoD-2022-OS-0127]

Proposed Collection; Comment Request

AGENCY: Defense Security Cooperation Agency (DSCA), Department of Defense (DoD).

ACTION: 60-Day information collection notice.

SUMMARY: In compliance with the Paperwork Reduction Act of 1995, the George C. Marshall Center for European Security Studies announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 24, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to George C. Marshall Center for European Security Studies, Gernackerstr. 2, 82467 Garmisch-Partenkirchen, Germany; ATTN: LTC Jonathan Nadler, or call 49(0)8821-750-2999.

SUPPLEMENTARY INFORMATION:

Title; Associated Form; and OMB Number: Marshall Center Alumni Survey; OMB Control Number 0704-ALUM.

Needs and Uses: The information collection is necessary to determine the value and effectiveness of the George C. Marshall European Center for Security Studies via the feedback from the Center's Alumni population. We seek to obtain quantifiable data, while offering the ability to collect qualitative responses, to help assess the Marshall Center's immediate and long terms impacts on the security cooperation enterprise. The Marshall Center will offer the opportunity to complete this digital, on-line survey to all alumni who graduated from one of our in-resident events from 2002-2022. The Alumni Department within the Center maintains and routinely updates the contact details of our Alumni, and the Alumni technicians will utilize this database to send voluntary messages for Alumni to participate in this survey.

Affected Public: Individuals or households.

Annual Burden Hours: 2,250.

Number of Respondents: 6,750.

Responses per Respondent: 1.

Annual Responses: 6,750.

Average Burden per Response: 20 minutes.

Frequency: Annually.

Dated: November 18, 2022.
Aaron T. Siegel,
Alternate OSD Federal Register Liaison Officer, Department of Defense.

[FR Doc. 2022-25651 Filed 11-23-22; 8:45 am]

BILLING CODE 5001-06-P